POSTAL REGULATORY COMMISSION

39 CFR Parts 3002 and 3004

[Docket No. RM2019-15; Order No. 5257]

Freedom of Information Act

AGENCY: Postal Regulatory Commission.

ACTION: Direct final rule.

SUMMARY: The Commission seeks to adopt direct final rules making minor changes related to its Freedom of Information Act (FOIA) regulations indicating that FOIA requests will be processed by the Office of the General Counsel.

DATES: This rule is effective November 18, 2019 without further action, unless adverse comment is received by November 4, 2019. If adverse comment is received, the Commission will publish a timely withdrawal of the rule in the Federal Register.

ADDRESSES: For additional information, Order No. 5257 can be accessed electronically through the Commission's website at https://www.prc.gov.

FOR FURTHER INFORMATION CONTACT: David A. Trissell, General Counsel, at 202-789-6820.

SUPPLEMENTARY INFORMATION:

Table of Contents

I. Background

II. Basis and Purpose of Rule Change

III. Final Rule

I. Background

In the past, the Commission processed FOIA requests through its Office of Secretary & Administration. As the nature of the Commission's FOIA requests has evolved, however, the Commission has determined that it is most efficient to process these requests within its Office of the General Counsel.

II. Basis and Purpose of Rule Change

Section 552(a)(1)(B) of title 5 of the United States Code requires federal agencies to separately state and currently publish “statements of the general course and method by which [their] functions are channeled and determined” in the Federal Register for the guidance of the public. Section 552(a)(1)(E) requires agencies to publish “each amendment, revision, or repeal” of these statements.

This direct final rule is intended to amend the Commission's FOIA regulations to more accurately reflect the Commission's current organization and practice. The revised rule complies with section 552(a)(1)(E)'s requirement that the Commission inform the public that it has made internal organizational changes that affect how it executes its FOIA-related functions.

III. Final Rule

List of Subjects

39 CFR Part 3002

Organization and functions (Government Agencies), Seals and insignia.

39 CFR Part 3004

Administrative practice and procedure, Freedom of information, Reporting and recordkeeping requirements.

For the reasons stated in the preamble, the Commission amends chapter III of title 39 of the Code of Federal Regulations as follows:

PART 3002—ORGANIZATION

1. The authority citation for part 3002 continues to read as follows:

Authority: 39 U.S.C. 503; 5 U.S.C. 552.

2. Amend § 3002.11 by revising paragraph (d) to read as follows:

§ 3002.11 Office of Secretary and Administration.

* * * * *

(d) The Office of Secretary and Administration manages the Commission's records, including the Commission's seal, administrative policies, orders, reports, and official correspondence. In this role, the Office of Secretary and Administration manages the Commission's dockets and docket room, website, reference materials, and inter-agency reporting. All orders and other actions of the Commission shall be authenticated or signed by the Secretary or any such other person as may be authorized by the Commission.

* * * * *

3. Amend § 3002.13 by revising paragraph (b) to read as follows:

§ 3002.13 Office of the General Counsel.

* * * * *

(b) The Office of the General Counsel provides legal assistance on matters involving the Commission's responsibilities; defends Commission decisions before the courts; and advises the Commission on the legal aspects of proposed legislation, rulemaking, requests made under the Freedom of Information Act, and policies on procurement, contracting, personnel matters, ethics, and other internal legal matters.

PART 3004—PUBLIC RECORDS AND FREEDOM OF INFORMATION ACT

4. The authority citation for part 3004 continues to read as follows:

Authority: 5 U.S.C. 552; 39 U.S.C 503.

5. Amend § 3004.3 by revising paragraph (a) to read as follows:

§ 3004.3 How to make a request.

(a) To request Commission records, please contact the Commission via letter or use the online request form provided on the Commission's website at http://www.prc.gov/foia/onlinerequest.

* * * * *

6. Amend § 3004.40 by revising paragraph (a)(7) to read as follows:

§ 3004.40 Hard copy requests for records and for expedited processing.

(a) * * *

(7) Be submitted to the Commission at the offices of the Commission (901 New York Avenue NW, Suite 200, Washington, DC 20268-0001).

* * * * *

7. Amend § 3004.43 by revising paragraphs (a) through (c), (d) introductory text, and (e) introductory text to read as follows:

§ 3004.43 Response to requests.

(a) Determination. Within 20 days (excluding Saturdays, Sundays, and legal holidays) after receipt of a request for a Commission record, the Chief FOIA Officer or his/her designee will notify the requester of its determination to grant or deny the request and the right to seek assistance from the Commission's FOIA Public Liaison. In the case of an adverse determination, the Commission will notify the requester of his/her right to appeal and right to seek dispute resolution services from the Commission's FOIA Public Liaison or the Office of Government Information Services.

(b) Granting request. If granting the request, the Chief FOIA Officer or his/her designee will notify the requester of any fees that must be paid.

(c) Partial granting of request. If the Commission is unable to grant the request in its entirety, any reasonably segregable portion of the request shall be provided, with deleted portions treated as specified in paragraph (d) of this section, and the Chief FOIA Officer or his/her designee will notify the requester of any fees that must be paid.

(d) Denying request. If denying the request, in whole or in part, the Chief FOIA Officer or his/her designee will inform the requester in writing of:

* * * * *

(e) Expedited processing. Within 10 days (excluding Saturdays, Sundays and legal holidays) after receipt of a request for expedited processing, the Chief FOIA Officer or his/her designee will:

* * * * *

8. Amend § 3004.44 by revising paragraph (a) to read as follows:

§ 3004.44 Appeals.

(a) The Commission may review any decision of the Chief FOIA Officer or his/her designee on its own initiative.

* * * * *

9. Revise § 3004.60 to read as follows:

§ 3004.60 Chief Freedom of Information Act Officer.

The Commission designates the General Counsel of the Commission as the Chief FOIA Officer. The Chief FOIA Officer shall be responsible for the administration of and reporting on the Commission's Freedom of Information Act program.

By the Commission.
Darcie S. Tokioka,
Acting Secretary.

[FR Doc. 2019-21431 Filed 10-3-19; 8:45 am]

BILLING CODE 7710-FW-P